DEPARTMENT OF TRANSPORTATION

Federal Aviation Administration

14 CFR Part 39

[Docket No. FAA-2023-2395; Project Identifier AD-2023-00767-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2022-08-12, which applies to all The Boeing Company Model 757 airplanes. AD 2022-08-12 requires repetitive inspections for skin cracking and shim migration at the upper link drag fittings, diagonal brace cracking, and fastener looseness; and applicable on-condition actions. Since the FAA issued AD 2022-08-12, it was determined that certain drag fittings may be made of alternate materials, which could result in reduced structural integrity of the engine strut, and that additional inspections and revised compliance times are needed. This proposed AD would retain the requirements of AD 2022-08-12 with revised compliance times for certain actions and would add inspections for existing repairs and applicable on-condition actions. The FAA is proposing this AD to address the unsafe condition on these products.

DATES: The FAA must receive comments on this proposed AD by February 5, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-2395; or in person at Docket Operations between 9 a.m. and 5 p.m., Monday through Friday, except Federal holidays. The AD docket contains this NPRM, any comments received, and other information. The street address for Docket Operations is listed above.

Material Incorporated by Reference:

• For service information identified in this NPRM, contact Boeing Commercial Airplanes, Attention: Contractual & Data Services (C&DS), 2600 Westminster Blvd., MC 110-SK57, Seal Beach, CA 90740-5600; telephone 562-797-1717; website myboeingfleet.com.

• You may view this service information at the FAA, Airworthiness Products Section, Operational Safety Branch, 2200 South 216th St., Des Moines, WA. For information on the availability of this material at the FAA, call 206-231-3195. It is also available at regulations.gov by searching for and locating Docket No. FAA-2023-2395.

FOR FURTHER INFORMATION CONTACT: Wayne Ha, Aviation Safety Engineer, FAA, 2200 South 216th St., Des Moines, WA 98198; telephone 562-627-5238; email wayne.ha@faa.gov.

SUPPLEMENTARY INFORMATION:

Comments Invited

The FAA invites you to send any written relevant data, views, or arguments about this proposal. Send your comments to an address listed under ADDRESSES. Include “Docket No. FAA-2023-2395; Project Identifier AD-2023-00767-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Wayne Ha, Aviation Safety Engineer, FAA, 2200 South 216th St., Des Moines, WA 98198; telephone 562-627-5238; email wayne.ha@faa.gov. Any commentary that the FAA receives that is not specifically designated as CBI will be placed in the public docket for this rulemaking.

Background

The FAA issued AD 2022-08-12, Amendment 39-22015 (87 FR 26964, May 6, 2022) (AD 2022-08-12), for all The Boeing Company Model 757 airplanes. AD 2022-08-12 was prompted by reports of bolt rotation in the engine drag fitting joint and fastener heads and cracks found in the skin of the fastener holes, and the need to reduce the compliance time for certain groups. AD 2022-08-12 requires repetitive inspections for skin cracking and shim migration at the upper link drag fittings, diagonal brace cracking, and fastener looseness; and applicable on-condition actions. The FAA issued AD 2022-08-12 to address cracking in the wing upper skin and forward drag fittings, which could lead to a compromised upper link and reduced structural integrity of the engine strut, and possible separation of a strut and engine from the airplane during flight.

Actions Since AD 2022-08-12 Was Issued

Since the FAA issued AD 2022-08-12, it was determined that drag fittings made of alternate materials have possibly been installed on some configurations, which could result in reduced structural integrity of the engine strut. The FAA has determined that additional inspections and revised compliance times are needed to maintain structural integrity.

FAA's Determination

The FAA is issuing this NPRM after determining that the unsafe condition described previously is likely to exist or develop on other products of the same type design.

Related Service Information Under 1 CFR Part 51

The FAA reviewed Boeing Alert Requirements Bulletin 757-57A0073 RB, Revision 3, dated May 5, 2023. This service information specifies procedures for a general visual inspection or records check of the wing upper skin at the drag fitting attachment holes for any existing repair; repetitive general visual and detailed inspections for loose fasteners, skin cracking, and shim migration at the upper link drag fittings, and for cracking in the diagonal brace and diagonal brace fittings; repetitive open-hole high frequency eddy current (HFEC) inspections for cracking of the fastener holes and loose bolt holes; and applicable on-condition actions. On-condition actions include performing an ultrasonic inspection for cracks at any repaired upper wing skin location; installing the upper link and upper link pins; replacing drag fittings; installing bolts, washers, and nuts; performing a torque check of fasteners on the affected shims; trimming affected shims and applying chemical conversion coating on the shims, fillet seal, and drag fittings; and repairing cracks, migrated shims, mistorqued bolts, and loose fasteners.

This service information is reasonably available because the interested parties have access to it through their normal course of business or by the means identified in ADDRESSES.

Proposed AD Requirements in This NPRM

Although this proposed AD does not explicitly restate the requirements of AD 2022-08-12, this proposed AD would retain all of the requirements of AD 2022-08-12. Those requirements are referenced in the service information identified previously, which, in turn, is referenced in paragraph (g) of this proposed AD.

This proposed AD would require accomplishing the actions specified in the service information already described except for any differences identified as exceptions in the regulatory text of this proposed AD. For information on the procedures and compliance times, see this service information at regulations.gov under Docket No. FAA-2023-2395.

Costs of Compliance

The FAA estimates that this AD, if adopted as proposed, would affect 496 airplanes of U.S. registry. The FAA estimates the following costs to comply with this proposed AD:

Estimated Costs
Action | Labor cost | Parts cost | Cost per product | Cost on U.S. operators
Repetitive HFEC inspections (retained actions from AD 2022-08-12) | 85 work-hours × $85 per hour = $7,225 per inspection cycle | $0 | $7,225 per inspection cycle | $3,583,600 per inspection cycle.
New proposed actions | Up to 4 work-hours × $85 per hour = Up to $340 | 0 | Up to $340 | Up to $168,640.

The FAA has received no definitive data on which to base the cost estimates for the on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-08-12, Amendment 39-22015 (87 FR 26964, May 6, 2022), and

b. Adding the following new AD:

The Boeing Company: Docket No. FAA-2023-2395; Project Identifier AD-2023-00767-T.

(a) Comments Due Date

The FAA must receive comments on this airworthiness directive (AD) by February 5, 2024.

(b) Affected ADs

This AD replaces AD 2022-08-12, Amendment 39-22015 (87 FR 26964, May 6, 2022) (AD 2022-08-12).

(c) Applicability

This AD applies to all The Boeing Company Model 757-200, 200PF, -200CB, and -300 series airplanes, certificated in any category.

(d) Subject

Air Transport Association (ATA) of America Code 57, Wings.

(e) Unsafe Condition

This AD was prompted by reports of bolt rotation in the engine drag fitting joint and fastener heads and cracks found in the skin of the fastener holes, a determination that certain drag fittings may be made of alternate materials, which could result in reduced structural integrity of the engine strut, and a determination that additional inspections and revised compliance times are needed. The FAA is issuing this AD to address cracking in the wing upper skin and forward drag fittings, which could lead to a compromised upper link and reduced structural integrity of the engine strut, and possible separation of a strut and engine from the airplane during flight.

(f) Compliance

Comply with this AD within the compliance times specified, unless already done.

(g) Required Actions

Except as specified by paragraph (h) of this AD: At the applicable times specified in the “Compliance” paragraph of Boeing Alert Requirements Bulletin 757-57A0073 RB, Revision 3, dated May 5, 2023, do all applicable actions identified in, and in accordance with, the Accomplishment Instructions of Boeing Alert Requirements Bulletin 757-57A0073 RB, Revision 3, dated May 5, 2023.

Note 1 to paragraph (g): Guidance for accomplishing the actions required by this AD can be found in Boeing Alert Service Bulletin 757-57A0073, Revision 3, dated May 5, 2023, which is referred to in Boeing Alert Requirements Bulletin 757-57A0073 RB, Revision 3, dated May 5, 2023.

(h) Exceptions to Service Information Specifications

(1) Where the Compliance Time columns of the tables in the “Compliance” paragraph of Boeing Alert Requirements Bulletin 757-57A0073 RB, Revision 3, dated May 5, 2023, use the phrase “the Original Issue date of Requirements Bulletin 757-57A0073 RB,” this AD requires using “September 10, 2018 (the effective date of AD 2018-16-05, Amendment 39-19345 (83 FR 38250, August 6, 2018))” (AD 2018-16-05).

(2) Where the Compliance Time columns of the tables in the “Compliance” paragraph of Boeing Alert Requirements Bulletin 757-57A0073 RB, Revision 3, dated May 5, 2023, use the phrase “the Revision 1 date of Requirements Bulletin 757-57A0073 RB,” this AD requires using “January 14, 2021 (the effective date of AD 2020-21-17, Amendment 39-21290 (85 FR 79418, December 10, 2020))” (AD 2020-21-17).

(3) Where the Compliance Time columns of the tables in the “Compliance” paragraph of Boeing Alert Requirements Bulletin 757-57A0073 RB, Revision 3, dated May 5, 2023, use the phrase “the Revision 2 date of Requirements Bulletin 757-57A0073 RB,” this AD requires using “June 10, 2022 (the effective date of AD 2022-08-12).”

(4) Where the Compliance Time columns of the tables in the “Compliance” paragraph of Boeing Alert Requirements Bulletin 757-57A0073 RB, Revision 3, dated May 5, 2023, use the phrase “the Revision 3 date of Requirements Bulletin 757-57A0073 RB,” this AD requires using the effective date of this AD.

(5) Where Boeing Alert Requirements Bulletin 757-57A0073 RB, Revision 3, dated May 5, 2023, specifies contacting Boeing for repair instructions or for alternative inspections: This AD requires doing the repair, or doing the alternative inspections and applicable on-condition actions using a method approved in accordance with the procedures specified in paragraph (j) of this AD.

(i) Credit for Previous Actions

(1) This paragraph provides credit for the actions specified in paragraph (g) of this AD, except for the open-hole high frequency eddy current inspections at fastener locations 11-18, if those actions were performed before January 14, 2021 (the effective date of AD 2020-21-17) using Boeing Alert Requirements Bulletin 757-57A0073 RB, dated July 14, 2017.

(2) This paragraph provides credit for the actions specified in paragraph (g) of this AD, if those actions were performed before June 10, 2022 (the effective date of AD 2022-08-12) using Boeing Alert Requirements Bulletin 757-57A0073 RB, Revision 1, dated August 1, 2019.

(3) This paragraph provides credit for the actions specified in paragraph (g) of this AD, if those actions were performed before the effective date of this AD using Boeing Alert Requirements Bulletin 757-57A0073 RB, Revision 2, dated March 1, 2021.

(j) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (k)(1) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(4) AMOCs approved for AD 2022-08-12 are approved as AMOCs for the corresponding provisions of Boeing Alert Requirements Bulletin 757-57A0073 RB, Revision 3, dated May 5, 2023, that are required by paragraph (g) of this AD, except for AMOCs approved for locations at the wing skin and drag fittings at the upper link drag fittings (fasteners 1-18).

(5) AMOCs approved for AD 2020-21-17 are approved as AMOCs for the corresponding provisions of Boeing Alert Requirements Bulletin 757-57A0073 RB, Revision 3, dated May 5, 2023, that are required by paragraph (g) of this AD, except for AMOCs approved for locations at the wing skin and drag fittings at the upper link drag fittings (fasteners 1-18).

(6) AMOCs approved for AD 2018-16-05 are approved as AMOCs for the corresponding provisions of Boeing Alert Requirements Bulletin 757-57A0073 RB, Revision 3, dated May 5, 2023, that are required by paragraph (g) of this AD, except for AMOCs approved for locations at the wing skin and drag fittings at the upper link drag fittings (fasteners 1-18).

(k) Related Information

(1) For more information about this AD, contact Wayne Ha, Aviation Safety Engineer, FAA, 2200 South 216th St., Des Moines, WA 98198; telephone 562-627-5238; email wayne.ha@faa.gov.

(2) Service information identified in this AD that is not incorporated by reference is available at the addresses specified in paragraphs (l)(3) and (4) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Requirements Bulletin 757-57A0073 RB, Revision 3, dated May 5, 2023.

(ii) [Reserved]

(3) For service information identified in this AD, contact Boeing Commercial Airplanes, Attention: Contractual & Data Services (C&DS), 2600 Westminster Blvd., MC 110-SK57, Seal Beach, CA 90740-5600; telephone 562-797-1717; website myboeingfleet.com.

(4) You may view this service information at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on December 14, 2023.
Victor Wicklund,
Deputy Director, Compliance & Airworthiness Division, Aircraft Certification Service.

[FR Doc. 2023-28004 Filed 12-20-23; 8:45 am]

BILLING CODE 4910-13-P